DEPARTMENT OF TRANSPORTATION

Federal Aviation Administration

14 CFR Part 39

[Docket No. FAA-2009-0699 Directorate Identifier 2009-CE-042-AD; Amendment 39-16169; AD 2009-21-08 R1]

RIN 2120-AA64

Airworthiness Directives; PIAGGIO AERO INDUSTRIES S.p.A Model PIAGGIO P-180 Airplanes

AGENCY: Federal Aviation Administration (FAA), Department of Transportation (DOT).

ACTION: Final rule.

SUMMARY: We are clarifying information contained in Airworthiness Directive (AD) 2009-21-08, which applies to PIAGGIO AERO INDUSTRIES S.p.A. (Piaggio) Model PIAGGIO P-180 airplanes. AD 2009-21-08 currently requires repetitive functional tests of the manifold system and replacement of any system that does not pass the functional tests (i.e., movement of the steering system). The language in AD 2009-21-08 incorrectly references not passing the functional tests as “movement of the manifold,” and it should read “movement of the steering system” as specified in the service bulletin. The notice of proposed rulemaking (NPRM) referenced it as specified in the service bulletin. This document incorporates the intent of the action as already proposed in the NPRM. We are issuing this AD to prevent a potentially dangerous veer along the runway. The steering system must be in the `off' position during landing and takeoff (in this case when airspeed is higher than 60 knots) according to the aircraft flight manual limitations.

DATES: The effective date of this AD is December 14, 2009, which is the same as AD 2009-21-08.

As of December 14, 2009 (74 FR 57561, November 9, 2009), the Director of the Federal Register approved the incorporation by reference of the following documents listed in this AD:

Service information title | Page(s) | Revision | Date
PIAGGIO AERO INDUSTRIES S.p.A. Service Bulletin (Mandatory) N. 80-0249 | 1 through 9 | Rev. 1 | May 27, 2009.
PIAGGIO AERO INDUSTRIES S.p.A. Service Bulletin (Mandatory) N. 80-0249 | CONFIRMATION SLIP | Rev. 1 | Not Dated.
PIAGGIO AERO PIAGGIO P.180 AVANTI Maintenance Manual, Report No. 9066, 32-50-00 | Cover | No. D2 | Revised June 16, 2008.
PIAGGIO AERO PIAGGIO P.180 AVANTI Maintenance Manual, Report No. 9066, 32-50-00 | 1 through 8 | Not Applicable | March 1, 2006.
PIAGGIO AERO PIAGGIO P.180 AVANTI Maintenance Manual, Report No. 9066, 32-50-00 | 201, 202, 204, and 206 through 216 | Not Applicable | June 16, 2008.
PIAGGIO AERO PIAGGIO P.180 AVANTI Maintenance Manual, Report No. 9066, 32-50-00 | 203 and 205 | Not Applicable | March 1, 2006.
PIAGGIO AERO PIAGGIO P.180 AVANTI Maintenance Manual, Report No. 9066, 32-50-00 | 501 through 506 | Not Applicable | March 1, 2006.
PIAGGIO AERO PIAGGIO P.180 AVANTI II Maintenance Manual, Report No. 180-MAN-0200-01105, 32-50-00 | Cover | No. A3 | Revised December 19, 2008.
PIAGGIO AERO PIAGGIO P.180 AVANTI II Maintenance Manual, Report No. 180-MAN-0200-01105, 32-50-00 | 1 through 8 | Not Applicable | June 30, 2005.
PIAGGIO AERO PIAGGIO P.180 AVANTI II Maintenance Manual, Report No. 180-MAN-0200-01105, 32-50-00 | 201, 202, and 207 through 209 | Not Applicable | December 19, 2008.
PIAGGIO AERO PIAGGIO P.180 AVANTI II Maintenance Manual, Report No. 180-MAN-0200-01105, 32-50-00 | 203 and 205 | Not Applicable | June 30, 2005.
PIAGGIO AERO PIAGGIO P.180 AVANTI II Maintenance Manual, Report No. 180-MAN-0200-01105, 32-50-00 | 204, 206, and 210 through 216 | Not Applicable | September 14, 2007.
PIAGGIO AERO PIAGGIO P.180 AVANTI II Maintenance Manual, Report No. 180-MAN-0200-01105, 32-50-00 | 501 through 506 | Not Applicable | June 30, 2005.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Discussion

On October 7, 2009, we issued AD 2009-21-08, Amendment 39-16047 (74 FR 57561, November 9, 2009), to require repetitive functional tests of the manifold system and replacement of any system that does not pass the functional tests (i.e., movement of the steering system) on Piaggio Model PIAGGIO P-180 airplanes.

The language in AD 2009-21-08 incorrectly references not passing the functional tests as “movement of the manifold,” and it should read “movement of the steering system” as specified in the service bulletin. The NPRM referenced it as specified in the service bulletin. This document incorporates the intent of the action as already proposed in the NPRM.

Consequently, the FAA sees a need to clarify AD 2009-21-08 to assure that the proper criteria are utilized for the required functional test and is revising the AD to incorporate the language discussed above and to add the amendment to section 39.13 of the Federal Aviation Regulations (14 CFR 39.13).

Since this action only clarifies the intent of what was originally proposed in the NPRM, it has no adverse economic impact and imposes no additional burden on any person than was already proposed. Therefore, the FAA has determined that prior notice and opportunity for public comment are unnecessary.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2009-21-08, Amendment 39-16047 74 FR 57561, November 9, 2009), and adding the following new AD:

2009-21-08 R1 PIAGGIO AERO INDUSTRIES S.p.A.: Amendment 39-16169; Docket No. FAA-2009-0699; Directorate Identifier 2009-CE-042-AD.

Effective Date

(a) The effective date of this AD is December 14, 2009, which is the same as AD 2009-21-08.

Affected ADs

(b) None.

Applicability

(c) This AD applies to Model PIAGGIO P-180 airplanes, all serial numbers (S/N), certificated in any category.

Subject

(d) Air Transport Association of America (ATA) Code 32: Landing Gear.

Reason

(e) The mandatory continuing airworthiness information (MCAI) states:

Some cases of uncommanded steering action were observed, while the steering system was switched off.

A leakage in the Steering Select/Bypass Valve, installed in the Steering Manifold, when closed, is suspected to have caused the uncommanded steering.

If left uncorrected, this condition could lead to a potentially dangerous veer along the runway; in fact, according to the Aircraft Flight Manual limitations, the steering system must be in `off' position during landing and takeoff (in this case when airspeed is higher than 60 knots). For the reasons stated above, this new AD mandates repetitive inspections for leakage of the Nose Landing Gear steering manifold.

The MCAI requires, if any inspection finds internal leakage of the steering manifold, the replacement of the steering manifold.

Actions and Compliance

(f) Unless already done, do the following actions:

(1) Within the next 6 months after December 14, 2009 (the effective date of this AD and AD 2009-21-08) or within the next 100 hours time-in-service (TIS) after December 14, 2009 (the effective date of this AD and AD 2009-21-08), whichever occurs first, and repetitively thereafter at intervals not to exceed every 165 hours TIS, do a functional test of the nose landing gear (NLG) steering manifold. Follow the accomplishment instructions of PIAGGIO AERO INDUSTRIES S.p.A. Service Bulletin (Mandatory) N. 80-0249 (includes CONFIRMATION SLIP), Rev. 1, dated May 27, 2009.

(2) Upon installation of a NLG steering manifold on any airplane, do a functional test of the NLG steering manifold. Repetitively thereafter at intervals not to exceed every 165 hours TIS, do a functional test of the NLG steering manifold. Follow the accomplishment instructions of PIAGGIO AERO INDUSTRIES S.p.A. Service Bulletin (Mandatory) N. 80-0249 (includes CONFIRMATION SLIP), Rev. 1, dated May 27, 2009.

(3) If during any inspection required in paragraphs (f)(1) and (f)(2) of this AD, any manifold system does not pass the functional tests (i.e., movement of the steering system), using the compliance times in the accomplishment instructions of PIAGGIO AERO INDUSTRIES S.p.A. Service Bulletin (Mandatory) N. 80-0249 (includes CONFIRMATION SLIP), Rev. 1, dated May 27, 2009, replace the NLG steering manifold following (for S/N 1004 through 1104) pages 1 through 8 dated March 1, 2006; 201, 202, 204, and 206 through 216, dated June 16, 2008; 203 and 205, dated March 1, 2006; and 501 through 506, dated March 1, 2006, of PIAGGIO AERO PIAGGIO P.180 AVANTI Maintenance Manual, Report No. 9066, 32-50-00, Revision No. D2, revised June 16, 2008; or (for S/N 1105 and greater) pages 1 through 8, dated June 30, 2005; 201, 202, and 207 through 209, dated December 19, 2008; 203 and 205, dated June 30, 2005; 204, 206, and 210 through 216, dated September 14, 2007; and 501 through 506, dated June 30, 2005, of PIAGGIO AERO PIAGGIO P.180 AVANTI II Maintenance Manual, Report No. 180-MAN-0200-01105, 32-50-00, Revision No. A3, revised December 19, 2008.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI EASA AD 2009-0129, dated June 19, 2009; PIAGGIO AERO INDUSTRIES S.p.A. Service Bulletin (Mandatory) N. 80-0249 (includes CONFIRMATION SLIP), Rev. 1, dated May 27, 2009; PIAGGIO AERO PIAGGIO P. 180 AVANTI Maintenance Manual, Report No. 9066, 32-50-00, revised June 16, 2008, pages 1 through 8, 201 through 216, and 501 through 506; and PIAGGIO AERO PIAGGIO P. 180 AVANTI II Maintenance Manual, Report No. 180-MAN-0200-01105, 32-50-00, revised December 19, 2008, pages 1 through 8, 201 through 216, and 501 through 506, for related information.

Material Incorporated by Reference

(i) You must use the service information specified in Table 1 of this AD to do the actions required by this AD, unless the AD specifies otherwise.

(1) On December 14, 2009 (74 FR 57561, November 9, 2009), the Director of the Federal Register previously approved the incorporation by reference of the service information listed in Table 1 of this AD.

(2) For service information identified in this AD, contact Piaggio Aero Industries S.p.a., Via Cibrario, 4—16154 Genoa, Italy; telephone +39 010 06481 741; fax: +39 010 6481 309; Internet: http://www.piaggioaero.com, or e-mail: MMicheli@piaggioaero.it.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Table 1—Material Incorporated by Reference
Service information title | Page(s) | Revision | Date
PIAGGIO AERO INDUSTRIES S.p.A. Service Bulletin (Mandatory) N. 80-0249 | 1 through 9 | Rev. 1 | May 27, 2009.
PIAGGIO AERO INDUSTRIES S.p.A. Service Bulletin (Mandatory) N. 80-0249 | CONFIRMATION SLIP | Rev. 1 | Not Dated.
PIAGGIO AERO PIAGGIO P. 180 AVANTI Maintenance Manual, Report No. 9066, 32-50-00 | Cover | No. D2 | Revised June 16, 2008.
PIAGGIO AERO PIAGGIO P. 180 AVANTI Maintenance Manual, Report No. 9066, 32-50-00 | 1 through 8 | Not Applicable | March 1, 2006.
PIAGGIO AERO PIAGGIO P. 180 AVANTI Maintenance Manual, Report No. 9066, 32-50-00 | 201, 202, 204, and 206 through 216 | Not Applicable | June 16, 2008.
PIAGGIO AERO PIAGGIO P. 180 AVANTI Maintenance Manual, Report No. 9066, 32-50-00 | 203 and 205 | Not Applicable | March 1, 2006.
PIAGGIO AERO PIAGGIO P. 180 AVANTI Maintenance Manual, Report No. 9066, 32-50-00 | 501 through 506 | Not Applicable | March 1, 2006.
PIAGGIO AERO PIAGGIO P. 180 AVANTI II Maintenance Manual, Report No. 180-MAN-0200-01105, 32-50-00 | Cover | No. A3 | Revised December 19, 2008.
PIAGGIO AERO PIAGGIO P. 180 AVANTI II Maintenance Manual, Report No. 180-MAN-0200-01105, 32-50-00 | 1 through 8 | Not Applicable | June 30, 2005.
PIAGGIO AERO PIAGGIO P. 180 AVANTI II Maintenance Manual, Report No. 180-MAN-0200-01105, 32-50-00 | 201, 202, and 207 through 209 | Not Applicable | December 19, 2008.
PIAGGIO AERO PIAGGIO P. 180 AVANTI II Maintenance Manual, Report No. 180-MAN-0200-01105, 32-50-00 | 203 and 205 | Not Applicable | June 30, 2005.
PIAGGIO AERO PIAGGIO P. 180 AVANTI II Maintenance Manual, Report No. 180-MAN-0200-01105, 32-50-00 | 204, 206, and 210 through 216 | Not Applicable | September 14, 2007.
PIAGGIO AERO PIAGGIO P. 180 AVANTI II Maintenance Manual, Report No. 180-MAN-0200-01105, 32-50-00 | 501 through 506 | Not Applicable | June 30, 2005.

Issued in Kansas City, Missouri, on December 30, 2009.
Kim Smith,
Manager, Small Airplane Directorate, Aircraft Certification Service.

[FR Doc. E9-31364 Filed 1-6-10; 8:45 am]

BILLING CODE 4910-13-P